ENVIRONMENTAL PROTECTION AGENCY

40 CFR Parts 52 and 81

[EPA-R04-OAR-2014-0870; FRL-9930-49-Region 4]

Approval and Promulgation of Implementation Plans and Designation of Areas for Air Quality Planning Purposes; Tennessee; Redesignation of the Knoxville 2008 8-Hour Ozone Nonattainment Area to Attainment

AGENCY: Environmental Protection Agency (EPA).

ACTION: Final rule.

SUMMARY: The Environmental Protection Agency (EPA) is taking four separate final actions related to a state implementation plan (SIP) revision submitted by the State of Tennessee, through the Tennessee Department of Environment and Conservation (TDEC), Division of Air Pollution Control, on November 14, 2014, for the Knoxville, Tennessee 8-hour ozone nonattainment area (hereinafter referred to as the “Knoxville Area” or “Area”). The Knoxville Area includes a portion of Anderson County as well as Blount and Knox Counties in their entireties. EPA is approving the base year emissions inventory for the 2008 8-hour ozone national ambient air quality standards (NAAQS) for the Knoxville Area; determining that the Knoxville Area is attaining the 2008 8-hour ozone NAAQS; approving into the SIP the State's plan for maintaining attainment of the 2008 8-hour ozone NAAQS in the Area, including the 2011 and 2026 motor vehicle emission budgets (MVEBs) for nitrogen oxides (NOX) and volatile organic compounds (VOC); and redesignating the Area to attainment for the 2008 8-hour ozone NAAQS. EPA is also finding the 2011 and 2026 MVEBs for NOX and VOC for the Knoxville Area adequate for the purposes of transportation conformity.

DATES: This rule is effective August 12, 2015.

ADDRESSES: EPA has established a docket for this action under Docket Identification No. EPA-R04-OAR-2014-0870. All documents in the docket are listed on the www.regulations.gov Web site. Although listed in the index, some information may not be publicly available, i.e., Confidential Business Information or other information whose disclosure is restricted by statute. Certain other material, such as copyrighted material, is not placed on the Internet and will be publicly available only in hard copy form. Publicly available docket materials are available either electronically through www.regulations.gov or in hard copy at the Air Regulatory Management Section (formerly the Regulatory Development Section), Air Planning and Implementation Branch (formerly the Air Planning Branch), Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Jane Spann or Tiereny Bell of the Air Regulatory Management Section, in the Air Planning and Implementation Branch, Air, Pesticides and Toxics Management Division, U.S. Environmental Protection Agency, Region 4, 61 Forsyth Street SW., Atlanta, Georgia 30303-8960. Ms. Spann may be reached by phone at (404) 562-9029 or via electronic mail at spann.jane@epa.gov. Ms. Bell may be reached by phone at (404) 562-9088 or via electronic mail at bell.tiereny@epa.gov.

SUPPLEMENTARY INFORMATION:

I. Background for Final Actions

On May 21, 2012, EPA designated areas as unclassifiable/attainment or nonattainment for the 2008 8-hour ozone NAAQS that was promulgated on March 27, 2008. See 77 FR 30088. The Knoxville Area was designated as nonattainment for the 2008 8-hour ozone NAAQS and classified as a marginal nonattainment area. On November 14, 2014, TDEC requested that EPA redesignate the Area to attainment for the 2008 8-hour ozone NAAQS and submitted a SIP revision containing a base year emissions inventory for the Area to address the requirements of Clean Air Act (CAA or Act) section 182(a)(1) and the State's plan for maintaining attainment of the 2008 8-hour ozone standard in the Area, including the 2011 and 2026 MVEBs for NOX and VOC. In a notice of proposed rulemaking (NPR) published on May 21, 2015, EPA proposed to approve the base year emissions inventory for the 2008 8-hour ozone NAAQS for the Knoxville Area; to determine that the Knoxville Area is attaining the 2008 8-hour ozone NAAQS; to approve into the SIP the State's plan for maintaining attainment of the 2008 8-hour ozone standard in the Area, including the 2011 and 2026 MVEBs for NOX and VOC; and to redesignate the Area to attainment for the 2008 8-hour ozone NAAQS. See 80 FR 29237. In that notice, EPA also notified the public of the status of the Agency's adequacy determination for the Knoxville Area NOX and VOC MVEBs.¹ The details of Tennessee's submittal and the rationale for EPA's actions are explained in the NPR. EPA received one comment on the May 21, 2015, NPR. This comment is provided in the docket for today's final actions and supports those actions. EPA's response to the comment is provided below.

¹ Tennessee's November 14, 2015, SIP submission, including the Knoxville Area NOX and VOC MVEBs, was open for public comment on EPA's adequacy Web site on December 4, 2014, found at: http://www.epa.gov/otaq/stateresources/transconf/currsips.htm#knx-tn. The EPA public comment period on adequacy for the MVEBs for 2011 and 2026 for the Knoxville Area closed on January 5, 2015. No comments, adverse or otherwise, were received during EPA's adequacy process for the MVEBs associated with Tennessee's maintenance plan.

II. EPA's Response to Comment

The Commenter “support[s] this docket as written” and states that “it is clear the metro area [Knoxville] is in attainment of the 2008 8-hour ozone standard.” Although supportive of the actions, the Commenter is “somewhat suspicious of the large projected decreases in NOX from [on] road sources, given that vehicle traffic will almost certainly be increasing throughout the modeled time period.” The Commenter believes that it “seems likely that smaller. . .reductions in NOX from [on] road sources. . . will still result in continued attainment of the ozone standard given that current NOX emissions are resulting in ozone attainment.”

EPA does not view this comment as adverse. Regarding the magnitude of the projected on-road mobile source NOX emissions reductions given increased vehicle traffic, EPA notes that Tennessee used the interagency consultation process required by 40 CFR part 93 (known as the Transportation Conformity Rule) which requires EPA, the United States Department of Transportation, metropolitan planning organizations (MPOs), state departments of transportation, and State and local air quality agencies to work together to develop applicable implementation plans. The planning assumptions used to develop on-road NOX emissions estimates for the Knoxville Area maintenance plan applied emissions factors developed from the latest EPA-approved mobile emissions model (known as the Motor Vehicle Emissions Simulator or MOVES2014) and did consider increased vehicle traffic by incorporating the increased vehicle miles travelled from the MPO's travel demand model. MOVES2014 is the state-of-the-science emissions model that incorporates the newest emissions control regulatory programs.

III. What are the effects of these actions?

Approval of Tennessee's redesignation request changes the legal designation of Blount and Knox Counties and the portion of Anderson County included in the Knoxville Area, found at 40 CFR 81.343, from nonattainment to attainment for the 2008 8-hour ozone NAAQS. Approval of Tennessee's associated SIP revision also incorporates a plan for maintaining the 2008 8-hour ozone NAAQS in the Knoxville Area through 2026 and a section 182(a)(1) base year emissions inventory into the Tennessee SIP. The maintenance plan establishes NOX and VOC MVEBs for 2011 and 2026 for the Knoxville Area and includes contingency measures to remedy any future violations of the 2008 8-hour ozone NAAQS and procedures for evaluation of potential violations. The NOX MVEBs for 2011 and 2026 are 41.62 tons per day (tpd) and 17.69 tpd, respectively. The VOC MVEBs for 2011 and 2026 are 19.71 tpd and 10.49 tpd, respectively. Additionally, EPA is finding the newly-established NOX and VOC MVEBs for the Knoxville Area adequate for the purpose of transportation conformity. Within 24 months from this final rule, the transportation partners will need to demonstrate conformity to the new NOX and VOC MVEBs pursuant to 40 CFR 93.104(e).

IV. Final Actions

EPA is taking four separate but related actions regarding the Knoxville Area's redesignation to attainment and maintenance of the 2008 8-hour ozone NAAQS. First, EPA is approving Tennessee's section 182(a)(1) base year emissions inventory for the 2008 8-hour ozone standard for the Knoxville Area into the SIP. Approval of the base year inventory is a prerequisite for EPA to redesignate the Area from nonattainment to attainment.

Second, EPA is determining that the Knoxville Area is attaining the 2008 8-hour ozone NAAQS based on complete, quality-assured and certified monitoring data for the 2011-2013 monitoring period. The 2012-2014 data in the Air Quality System indicates that the Area is continuing to attain the 2008 8-hour ozone NAAQS.

Third, EPA is approving the maintenance plan for the Knoxville Area, including the NOX and VOC MVEBs for 2011 and 2026, into the Tennessee SIP (under CAA section 175A). The maintenance plan demonstrates that the Area will continue to maintain the 2008 8-hour ozone NAAQS, and the budgets meet all of the adequacy criteria contained in 40 CFR 93.118(e)(4) and (5).

Fourth, EPA is determining that Tennessee has met the criteria under CAA section 107(d)(3)(E) for the Knoxville Area for redesignation from nonattainment to attainment for the 2008 8-hour ozone NAAQS. On this basis, EPA is approving Tennessee's redesignation request for the 2008 8-hour ozone NAAQS for the Knoxville Area. As mentioned above, approval of the redesignation request changes the official designation of Blount and Knox Counties and the portion of Anderson County in the Knoxville Area for the 2008 8-hour ozone NAAQS from nonattainment to attainment, as found at 40 CFR part 81.

EPA is also finding the newly-established NOX and VOC MVEBs for the Knoxville Area adequate for the purpose of transportation conformity. Within 24 months from this final rule, the transportation partners will need to demonstrate conformity to the new NOX and VOC MVEBs pursuant to 40 CFR 93.104(e).

V. Statutory and Executive Order Reviews

Under the CAA, redesignation of an area to attainment and the accompanying approval of the maintenance plan under CAA section 107(d)(3)(E) are actions that affect the status of geographical area and do not impose any additional regulatory requirements on sources beyond those required by state law. A redesignation to attainment does not in and of itself impose any new requirements, but rather results in the application of requirements contained in the CAA for areas that have been redesignated to attainment. Moreover, the Administrator is required to approve a SIP submission that complies with the provisions of the Act and applicable Federal regulations. See 42 U.S.C. 7410(k); 40 CFR 52.02(a). Thus, in reviewing SIP submissions, EPA's role is to approve state choices, provided that they meet the criteria of the CAA. Accordingly, these actions merely approve state law as meeting Federal requirements and do not impose additional requirements beyond those imposed by state or federal law. For these reasons, these actions:

• Are not a significant regulatory actions subject to review by the Office of Management and Budget under Executive Orders 12866 (58 FR 51735, October 4, 1993) and 13563 (76 FR 3821, January 21, 2011);

• do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Pub. L. 104-4);

• do not have Federalism implications as specified in Executive Order 13132 (64 FR 43255, August 10, 1999);

• are not economically significant regulatory actions based on health or safety risks subject to Executive Order 13045 (62 FR 19885, April 23, 1997);

• are not a significant regulatory action subject to Executive Order 13211 (66 FR 28355, May 22, 2001);

• are not subject to requirements of Section 12(d) of the National Technology Transfer and Advancement Act of 1995 (15 U.S.C. 272 note) because application of those requirements would be inconsistent with the CAA; and

• do not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 11, 2015. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects

40 CFR Part 52

Environmental protection, Air pollution control, Incorporation by reference, Intergovernmental relations, Nitrogen dioxide, Ozone, Reporting and recordkeeping requirements, Volatile organic compounds.

40 CFR Part 81

Environmental protection, Air pollution control.

Dated: July 6, 2015.
Heather McTeer Toney,
Regional Administrator, Region 4.

40 CFR parts 52 and 81 are amended as follows:

PART 52—APPROVAL AND PROMULGATION OF IMPLEMENTATION PLANS

1. The authority citation for part 52 continues to read as follows:

Authority: 42 U.S.C. 7401 et seq.

Subpart RR—Tennessee

2. Section 52.2220(e) is amended by adding two new entries for “2008 8-hour Ozone Maintenance Plan for the Knoxville Area” and “2008 8-hour Ozone Emissions Inventory for the Knoxville Area” at the end of the table to read as follows:

§ 52.2220 Identification of plan.

* * * * *

(e) * * *

EPA-Approved Tennessee Non-Regulatory Provisions
Name of non-regulatory SIP provision | Applicable geographic or nonattainment area | State effective date | EPA Approval date | Explanation
* * * * * * *
2008 8-hour Ozone Maintenance Plan for the Knoxville Area | Blount County, Knox County, and a portion of Anderson County | 11/14/14 | 7/13/15 [Insert citation of publication] |
2008 8-hour Ozone Emissions Inventory for the Knoxville Area | Blount County, Knox County, and a portion of Anderson County | 11/14/14 |  |

PART 81—DESIGNATION OF AREAS FOR AIR QUALITY PLANNING PURPOSES

3. The authority citation for part 81 continues to read as follows:

Authority: 42 U.S.C. 7401 et seq.

4. In § 81.343, the table entitled “Tennessee-2008 8-Hour Ozone NAAQS (Primary and secondary)” is amended by revising the entries for “Knoxville, TN,” “Anderson County (part),” “Blount County,” and “Knox County” to read as follows:

§ 81.343 Tennessee.

* * * * *

Tennessee-2008 8-Hour Ozone NAAQS
[Primary and secondary]
Designated area | Designation: Date ¹ | Designation: Type | Category/Classification: Date ¹ | Category/Classification: Type
Knoxville, TN ² | This action is effective 7/13/15 | Attainment |  |
Anderson County (part):
2000 Census tracts: 202, 213.02 |  |  |  |
Blount County |  |  |  |
Knox County |  |  |  |
* * * * * * *
¹ This date is July 20, 2012, unless otherwise noted.
² Excludes Indian country located in each area, unless otherwise noted.
³ Includes any Indian country in each county or area, unless otherwise specified.

* * * * *

[FR Doc. 2015-17055 Filed 7-10-15; 8:45 am]

BILLING CODE 6560-50-P